ELECTION ASSISTANCE COMMISSION

Sunshine Act Meeting; Cancellation

AGENCY: United States Election Assistance Commission (EAC).

ACTION: Notice to cancel EAC public meeting.

SUMMARY: The U.S. Election Assistance Commission has cancelled the EAC closed session meeting scheduled for Wednesday, August 25, 2010, 9-11 a.m. EDT. The meeting was announced in a sunshine notice that was published in the Federal Register on Wednesday, August 18, 2010 in Volume 75, Number 159.

Person to Contact for Information: Bryan Whitener, Telephone: (202) 566-3100.

Donetta Davidson,
Chair, U.S. Election Assistance Commission.

[FR Doc. 2010-21266 Filed 8-23-10; 4:15 pm]

BILLING CODE 6820-KF-P